DEPARTMENT OF ENERGY

Federal Energy Regulatory Commission

[Docket No. IC17-9-000]

Commission Information Collection Activities (FERC-510, FERC-520, FERC-561, and FERC-583); Consolidated Comment Request; Extension

AGENCY: Federal Energy Regulatory Commission, Department of Energy.

ACTION: Notice of information collections and request for comments.

SUMMARY: In compliance with the requirements of the Paperwork Reduction Act of 1995, the Federal Energy Regulatory Commission (Commission or FERC) is soliciting public comment on the requirements and burden of the information collections described below.

DATES: Comments on the collections of information are due June 2, 2017.

ADDRESSES: You may submit comments (identified by Docket No. IC17-9-000) by either of the following methods:

• eFiling at Commission's Web site: http://www.ferc.gov/docs-filing/efiling.asp.

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-510 [Application for Surrender of a Hydropower License]

OMB Control No.: 1902-0068

Abstract: The information collected under the requirements of FERC-510 is used by the Commission to implement the statutory provisions of sections 4(e), 6 and 13 of the Federal Power Act (FPA) (16 U.S.C. 797(e), 799, and 806). Section 4(e) gives the Commission authority to issue licenses for the purposes of constructing, operating and maintaining dams, water conduits, reservoirs, powerhouses, transmission lines or other power project works necessary or convenient for developing and improving navigation, transmission and utilization of power using bodies of water over which Congress has jurisdiction. Section 6 gives the Commission the authority to prescribe the conditions of licenses including the revocation or surrender of the license. Section 13 defines the Commission's authority to delegate time periods for when a license must be terminated if project construction has not begun. Surrender of a license may be desired by a licensee when a licensed project is retired or not constructed or natural catastrophes have damaged or destroyed the project facilities.

FERC-510 is the application for the surrender of a hydropower license. The information is used by Commission staff to determine the broad impact of such surrender. The Commission will issue a notice soliciting comments from the public and other agencies and conduct a careful review of the application before issuing an order for Surrender of a License. The order is the result of an analysis of the information produced (i.e., dam safety, public safety, and environmental concerns, etc.), which is examined to determine whether any conditions must be satisfied before granting the surrender. The order implements the existing regulations and is inclusive for surrender of all types of hydropower licenses issued by FERC and its predecessor, the Federal Power Commission. The Commission implements these mandatory filing requirements in the Code of Federal Regulations (CFR) under 18 CFR 6.1 through 6.4.

Type of Respondent: Private or Municipal Hydropower Licensees.

Estimate of Annual Burden: ¹ The Commission estimates the total annual burden and cost ² for this information collection as follows:

¹ “Burden” is the total time, effort, or financial resources expended by persons to generate, maintain, retain, or disclose or provide information to or for a Federal agency. For additional information, refer to Title 5 Code of Federal Regulations 1320.3.

² The Commission staff thinks that the average respondent for this collection is similarly situated to the Commission, in terms of salary plus benefits. Based upon FERC's 2017 annual average of $158,754 (for salary plus benefits), the average hourly cost is $76.50/hour.

FERC-510 Application for Surrender of a Hydropower License
Number of respondents | Annual number of responses per respondent | Total number of responses | Average burden and cost per response | Total annual burden hours and total annual cost | Cost per respondent ($)
(1) | (2) | (1) * (2) = (3) | (4) | (3) * (4) = (5) | (5) ÷ (1)
14 | 1 | 14 | 80 hrs.; ³ $6,120 | 1,120 hrs.; $85,680 | $6,120

FERC-520 [Application for Authority To Hold Interlocking Directorate Positions]

OMB Control No.: 1902-0083

Abstract: The Federal Power Act (FPA), as amended by the Public Utility Regulatory Policies Act of 1978 (PURPA), mandates federal oversight and approval of certain electric corporate activities to ensure that neither public nor private interests are adversely affected. Accordingly, the FPA proscribes related information filing requirements to achieve this goal. Such filing requirements are found in the Code of Federal Regulations (CFR), specifically in 18 CFR part 45, and serve as the basis for FERC-520.

³ Based on additional information, we are revising the estimated average burden per response to 80 hours (rather than 10 hours). The reporting requirements have not changed.

FERC-520 is divided into two types of applications: Full and informational. The full application, as specified in 18 CFR 45.8, implements the FPA requirement under section 305(b) that it is unlawful for any person to concurrently hold the positions of officer or director of more than one public utility; or a public utility and a financial institution that is authorized to underwrite or participate in the marketing of public utility securities; or a public utility and an electrical equipment supplier to that public utility, unless authorized by order of the Commission. In order to obtain authorization, an applicant must demonstrate that neither public nor private interests will be adversely affected by the holding of the position. The full application provides the Commission with information about any interlocking position for which the applicant seeks authorization including, but not limited to, a description of duties and the estimated time devoted to the position.

An informational application, specified in 18 CFR 45.9, allows an applicant to receive automatic authorization for an interlocked position upon receipt of the filing by the Commission. The informational application applies only to those individuals who seek authorization as: (1) An officer or director of two or more public utilities where the same holding company owns, directly or indirectly, that percentage of each utility's stock (of whatever class or classes) which is required by each utility's by-laws to elect directors; (2) an officer or director of two public utilities, if one utility is owned, wholly or in part, by the other and, as its primary business, owns or operates transmission or generation facilities to provide transmission service or electric power for sale to its owners; or (3) an officer or director of more than one public utility, if such person is already authorized under part 45 to hold different positions as officer or director of those utilities where the interlock involves affiliated public utilities.

Pursuant to 18 CFR 45.5, in the event that an applicant resigns or withdraws from Commission-authorized interlocked positions or is not re-elected or re-appointed to such interlocked positions, the Commission requires that the applicant submit a notice of change within 30 days from the date of the change.

Type of Respondents: Individuals who plan to concurrently become officers or directors of public utilities and of certain other covered entities must request authorization to hold such interlocking positions by submitting a FERC-520.

Estimate of Annual Burden: ¹ The Commission estimates the total annual burden and cost ² for this information collection as follows:

FERC-520 Application for Authority To Hold Interlocking Directorate Positions
| Number of respondents | Annual number of responses per respondent | Total number of responses | Average burden and cost per response | Total annual burden hours (total annual cost) | Cost per respondent ($)
| (1) | (2) | (1) * (2) = (3) | (4) | (3) * (4) = (5) | (5) ÷ (1)
Full | 16 | 1 | 16 | 50 hrs.; $3,825 | 800 hrs.; $61,200 | $3,825
Informational | 500 | 1 | 500 | 8 hrs.; $612 | 4,000 hrs.; $306,000 | 612
Notice of Change | 200 | 1 | 200 | 0.25 hrs.; $19.13 | 50 hrs.; $3,825 | 19.13
Total |  |  |  |  | 4,850 hrs.; $371,025 |

FERC-561 [Annual Report of Interlocking Positions]

OMB Control No.: 1902-0099

Abstract: The FERC Form 561 responds to the FPA requirements for annual reporting of similar types of positions which public utility officers and directors hold with financial institutions, insurance companies, utility equipment and fuel providers, and with any of an electric utility's 20 largest purchasers of electric energy (i.e., the 20 entities with high expenditures of electricity). The FPA specifically defines most of the information elements in the Form 561 including the information that must be filed, the required filers, the directive to make the information available to the public, and the filing deadline.

The Commission uses the information required by 18 CFR 131.31 and collected by the Form 561 to implement the FPA requirement that those who are authorized to hold interlocked directorates annually disclose all the interlocked positions held within the prior year. The Form 561 data identifies persons holding interlocking positions between public utilities and other entities, allows the Commission to review these interlocking positions, and allows identification of possible conflicts of interest.

Type of Respondents: Public utility officers and directors holding financial positions, insurance companies, security underwriters, electrical equipment suppliers, fuel provider, and any entity which is controlled by these.

Estimate of Annual Burden: ¹ The Commission estimates the total annual burden and cost ² for this information collection as follows:

FERC Form 561—Annual Report of Interlocking Positions
Number of respondents | Annual number of responses per respondent | Total number of responses | Average burden and cost per response | Total annual burden hours and total annual cost | Cost per respondent ($)
(1) | (2) | (1) * (2) = (3) | (4) | (3) * (4) = (5) | (5) ÷ (1)
2,700 | 1 | 2,700 | 0.25 hrs.; $19.13 | 675.00 hrs.; $51,637.50 | $19.13

FERC-583 [Annual Kilowatt Generating Report (Annual Charges)]

OMB Control No.: 1902-0136

Abstract: The FERC-583 is used by the Commission to implement the statutory provisions of section 10(e) of the Federal Power Act (FPA) (16 U.S.C. 803(e)), which requires the Commission to collect annual charges from hydropower licensees for, among other things, the cost of administering part I of the FPA and for the use of United States dams. In addition, section 3401 of the Omnibus Budget Reconciliation Act of 1986 (OBRA) authorizes the Commission to “assess and collect fees and annual charges in any fiscal year in amounts equal to all of the costs incurred by the Commission in that fiscal year.” The information is collected annually and used to determine the amounts of the annual charges to be assessed licensees for reimbursable government administrative costs and for the use of government dams. The Commission implements these filing requirements in the Code of Federal Regulations (CFR) under 18 CFR part 11.1 through 11.8.⁴

⁴ As discussed in 18 CFR part 11, selected federal agencies (such as the United States Fish and Wildlife Service and the National Marine Fisheries Service) submit annual reports to the Commission on their federal costs in administering part I of the Federal Power Act. The filing requirements imposed on those federal agencies are not collected for general statistical purposes and are not a “collection of information” as defined by 5 CFR 1320.3(c)(3). (The form and additional information on the information provided by those agencies is posted at https://www.ferc.gov/docs-filing/forms.asp#ofa.)

Type of Respondent: FERC-regulated private and public hydropower licensees.

Estimate of Annual Burden: ¹ The Commission estimates the total annual burden and cost ² for this information collection as follows:

FERC-583—Annual Kilowatt Generating Report
[Annual Charges]
Number of respondents ⁵ | Annual number of responses per respondent | Total number of responses | Average burden and cost per response | Total annual burden hours and total annual cost | Cost per respondent ($)
(1) | (2) | (1) * (2) = (3) | (4) | (3) * (4) = (5) | (5) ÷ (1)
520 | 1 | 520 | 2 hrs.; $153 | 1,040 hrs.; $79,560 | $153

Dated: March 24, 2017.
Kimberly D. Bose,
Secretary.

[FR Doc. 2017-06420 Filed 3-31-17; 8:45 am]

BILLING CODE 6717-01-P